DEPARTMENT OF TRANSPORTATION

Federal Aviation Administration

[Docket No. FAA-2024-2754]

Agency Information Collection Activities: Requests for Comments; Clearance of a Renewed Approval of Information Collection: Aviation Insurance

AGENCY: Federal Aviation Administration (FAA), DOT.

ACTION: Notice and request for comments.

SUMMARY: In accordance with the Paperwork Reduction Act of 1995, FAA invites public comments about our intention to request the Office of Management and Budget (OMB) approval to renew an information collection. The collection involves obtaining information from air carriers to establish legally binding aviation war risk insurance policies with the FAA. The information to be collected is necessary to determine whether applicants are eligible for insurance and the amount of coverage necessary; populate insurance policies with business information; and meet conditions of coverage required by each insurance policy.

DATES: Written comments should be submitted by February 28, 2025.

ADDRESSES: Please send written comments:

By Electronic Docket: www.regulations.gov (Enter docket number into search field).

By mail: Stacy Ditto, 4848 Lambs Knoll Road, Boonsboro, MD 21713.

By fax: 301-432-7901.

FOR FURTHER INFORMATION CONTACT: Stacy Ditto by email at: stacy.m.ditto@faa.gov; phone: 301-432-3046.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0514.

Title: Aviation Insurance.

Form Numbers: Not applicable.

Type of Review: Renewal of an information collection.

Background: The FAA Aviation Insurance Program derives its authority from Title 49, United States Code, chapter 443 to issue aviation war risk insurance to air carriers with and without premium. FAA coverage is issued in support of mission objectives and operations when insurance is not available commercially on reasonable terms and conditions. Air carriers never insured must submit an application before the FAA can provide coverage. Applicants provide business information, aircraft to be covered by the policy, and information about commercial insurance policies. As a condition of FAA coverage, air carriers must submit any changes to the initial application information as necessary. Air carriers must also provide a copy of their current commercial insurance policy on an ongoing basis, as well as information for any new aircraft the air carrier would like to add to the FAA policy. This information is provided electronically to the FAA through a web-based system. The information is used to form the insurance policy between the FAA and the air carrier.

Respondents: Air carriers applying for aviation insurance and updating required information.

Frequency: Initial one-time application and updates to application information 1-2 times per year.

Estimated Average Burden per Response: Initial application—4 hours; commercial policy submission—10 minutes; business information update—5 minutes; and aircraft schedule update—2 minutes per aircraft.

Estimated Total Annual Burden: 10 minutes to 4 hours per respondent. Cumulative total 158 hours (maximum).

Issued in Boonsboro, MD, on December 20, 2024.
Stacy Ditto,
Program Manager, Aviation Insurance, Command and Control Communications (C3) Division (AXE-400), Office of National Security Programs and Incident Response, Federal Aviation Administration.

[FR Doc. 2024-30955 Filed 12-27-24; 8:45 am]

BILLING CODE 4910-13-P